DEPARTMENT OF COMMERCE

National Oceanic and Atmospheric Administration

Announcement of U.S. Coral Reef Task Force Meeting

AGENCY: Department of Commerce.

ACTION: Notice of public meeting and opportunity for public comment.

Time and Date: Session I—Outreach Workshop and Science Panels: 9 a.m. to 5 p.m., Tuesday, February 24, 2004, EST; Session II—U.S. Coral Reef Task Force Business Meeting: 8:30 a.m. to 5:30 p.m., Wednesday, February 25, 2004, EST.

Place: Main Auditorium, Department of Commerce, 14th Street and Constitution Avenue, NW., Washington, DC 20230.

SUMMARY: The Department of Commerce announces a public meeting of the U.S. Coral Reef Task Force (CRTF) February 24-25, 2004, in Washington, DC. Through the coordinated efforts of its members, including representatives of twelve federal agencies, the Governors of seven states and territories, and the leaders of the Freely Associated States, the Task Force has helped lead U.S. efforts to address the coral reef crisis and sustainably manage the nation's valuable coral reef ecosystems.

Matters To Be Considered: During the public meeting, the CRTF will report on the implementation of 3-year Local Action Strategies, discuss the status of Task Force resolutions, update action items from the 10th CRTF meeting in the Commonwealth of the Northern Marianas Islands and Guam, and accept public comments. Once finalized, the agenda will be available from the contact below and will also be published on the Web at http://coralreef.gov/.

Individuals and organizations can register to attend the meeting at http://coralreef.gov. There is also an opportunity to register for both exhibit space and to provide public comments through the contacts below. Wherever possible, those with similar viewpoints or messages are encouraged to make joint statements. Public comments will be received on the afternoon of February 25, 2004. Written public statements may also be submitted to the Task Force prior to, during, or after the meeting. The deadline for submission of written public statements is March 10, 2004. Only written public comments will receive a response from the CRTF.

Travel information and meeting updates are posted on the Web at http://coralreef.gov.

FOR FURTHER INFORMATION CONTACT: Organizations and individuals wishing to register for public comments, submit written statements or to obtain additional information should contact the CRTF meeting office:

Shane Guan, Coral Reef Conservation Program, National Oceanic and Atmospheric Administration (NOAA), Office of Response and Restoration, N/ORR, 1305 East West Hwy, Silver Spring, MD 20910, Phone (301) 713-2989 x118, Fax (301) 713-4389, E-mail: Shane.Guan@noaa.gov.

Exhibit space reservations can be made by contacting Miguel Lugo at the above address or at Miguel.Lugo@noaa.gov, (301) 713-2989 x102.

Dated: January 23, 2004.
Jamison S. Hawkins,
Deputy Assistant Administrator, Ocean Services and Coastal Zone Management, National Oceanic and Atmospheric Administration.

[FR Doc. 04-1903 Filed 1-28-04; 8:45 am]

BILLING CODE 3510-JE-P